NUCLEAR REGULATORY COMMISSION

[Docket No. 50-243; NRC-2010-0044]

Nextera Energy Seabrook, LLC; Notice of Withdrawal of Application for Amendment to Facility Operating License

The U.S. Nuclear Regulatory Commission (the Commission or NRC) has granted the request of NextEra Energy Seabrook, LLC (the licensee), to withdraw its January 27, 2011, application for proposed amendment to Facility Operating License No. NPF-86 for Seabrook Station, Unit No. 1 (Seabrook), located in Rockingham County, New Hampshire.

The proposed amendment would have revised Seabrook Technical Specification Sections 6.7.6.k and 6.8.1.7 to allow an alternate repair criteria during inspection of the steam generators. The amendment application dated January 27, 2011, is available in the Agencywide Documents Access and Management System (ADAMS) Accession No. ML110330202.

The Commission had previously issued a Notice of Consideration of Issuance of Amendment published in the Federal Register on March 1, 2011 (76 FR 11291), and March 22, 2011 (76 FR 16009). However, by letter dated April 19, 2011, (ADAMS Accession No. ML11112A024) the licensee withdrew the proposed change.

For further details with respect to this action, see the application for amendment dated January 27, 2011, and the licensee's letter dated April 19, 2011, which withdrew the application for license amendment. Documents may be examined, and/or copied for a fee, at the NRC's Public Document Room (PDR), located at One White Flint North, Public File Area O1 F21, 11555 Rockville Pike (first floor), Rockville, Maryland. Publicly available records will be accessible electronically from the Agencywide Documents Access and Management System (ADAMS) Public Electronic Reading Room on the internet at the NRC Web site, http://www.nrc.gov/reading-rm/adams.html. Persons who do not have access to ADAMS or who encounter problems in accessing the documents located in ADAMS should contact the NRC PDR Reference staff by telephone at 1-800-397-4209, or 301-415-4737 or by email to pdr.resource@nrc.gov.

Dated at Rockville, Maryland, this 2nd day of May 2011.
For the Nuclear Regulatory Commission.
G. Edward Miller,
Project Manager, Plant Licensing Branch I-2, Division of Operating Reactor Licensing, Office of Nuclear Reactor Regulation.

[FR Doc. 2011-11114 Filed 5-5-11; 8:45 am]

BILLING CODE 7590-01-P